DEPARTMENT OF STATE

[Public Notice 6668]

Renewal and Amendment of International Security Advisory Board Charter

The Department of State announces the Charter renewal and amendment of the International Security Advisory Board (ISAB).

The purpose of the ISAB is to provide the Department with a continuing source of independent advice on all aspects of arms control, disarmament, nonproliferation, political-military issues, international security, and related aspects of public diplomacy. The ISAB will remain in existence for two years after the filing date of the Charter unless terminated or renewed sooner.

For more information, contact Kerry Kartchner, Acting Executive Director of the International Security Advisory Board, Department of State, Washington, DC 20520, telephone: (202) 647-5824

Dated: September 15, 2009.
Kerry Kartchner,
Acting Executive Director, International Security Advisory Board, U.S. Department of State.

[FR Doc. E9-25956 Filed 10-27-09; 8:45 am]

BILLING CODE 4710-24-P